DEPARTMENT OF JUSTICE

Drug Enforcement Administration

Manufacturer of Controlled Substances; Notice of Application

Pursuant to Section 1301.33(a) of Title 21 of the Code of Federal Regulations (CFR), this is notice that on October 20, 2003, Siegfried (USA), Inc., Industrial Park Road, Pennsville, New Jersey 08070, made application by renewal to the Drug Enforcement Administration (DEA) for registration as a bulk manufacturer of the basic classes of controlled substances listed below:

Drug | Schedule
Amphetamine (1100) | II
Methylphenidate (1724) | II
Ambobarbital (2125) | II
Pentobarbital (2270) | II
Secobarbital (2315) | II
Glutehimide (2550) | II
Codeine (9050) | II
Hydrocodone (9193) | II
Methadone (9250) | II
Dextropropoxyphene, bulk (non-dosage forms) (9273) | II

The firm plans to manufacture the listed controlled substances for distribution as bulk products to its customers.

Any other such applicant and any person who is presently registered with DEA to manufacture such substance may file comments or objections to the issuance of the proposed registration.

Any such comments or objections may be addressed, in quintuplicate, to the Deputy Assistant Administrator, Office of Diversion Control, Drug Enforcement Administration, United States Department of Justice, Washington, DC 20537, Attention: Federal Register Representative, Office of Chief Counsel (CCD) and must be filed no later than March 29, 2004.

Dated: December 24, 2003.
Laura M. Nagel,
Deputy Assistant Administrator, Office of Diversion Control, Drug Enforcement Administration.

[FR Doc. 04-1648 Filed 1-26-04; 8:45 am]

BILLING CODE 4410-09-M